DEPARTMENT OF LABOR

Agency Information Collection Activities; Submission for OMB Review; Comment Request; Trade Adjustment Assistance Program Reserve Funding Request

ACTION: Notice of availability; request for comments.

SUMMARY: The Department of Labor (DOL) is submitting this Employment and Training Administration (ETA)-sponsored information collection request (ICR) to the Office of Management and Budget (OMB) for review and approval in accordance with the Paperwork Reduction Act of 1995 (PRA). Public comments on the ICR are invited.

DATES: The OMB will consider all written comments that the agency receives on or before August 22, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Mara Blumenthal by telephone at 202-693-8538, or by email at DOL_PRA_PUBLIC@dol.gov.

SUPPLEMENTARY INFORMATION: Section 236(a)(2)(D) of the Trade Act of 1974, as amended (Act), requires the Secretary to establish procedures for the distribution of funds remaining after the initial distribution under Section 236(a)(2)(B)(i). Section 241 of the Trade Act of 1974, as amended, requires the Secretary of Labor to certify to the Secretary of the Treasury amounts necessary for each cooperating state to provide services and make payments under the Act. As such, states may request reserve funds to cover the costs of training, job search allowances and relocation allowances, employment and case management services, and state administration of these benefits before DOL issues the final distribution of state allocations. Reserve funds are distributed to states in accordance with 20 CFR 618.920 on an as-needed basis in response to requests to provide monies to those states that experience large, unexpected layoffs, or otherwise have financial needs that are not met by their initial allocation. These funds are requested using the Form ETA-9117. For additional substantive information about this ICR, see the related notice published in the Federal Register on April 28, 2022 (87 FR 25305).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-ETA.

Title of Collection: Trade Adjustment Assistance Program Reserve Funding Request.

OMB Control Number: 1205-0275.

Affected Public: State, Local, and Tribal Governments.

Total Estimated Number of Respondents: 25.

Total Estimated Number of Responses: 25.

Total Estimated Annual Time Burden: 50 hours.

Total Estimated Annual Other Costs Burden: $0.

(Authority: 44 U.S.C. 3507(a)(1)(D))

Dated: July 15, 2022.
Mara Blumenthal,
Senior PRA Analyst.

[FR Doc. 2022-15683 Filed 7-21-22; 8:45 am]

BILLING CODE 4510-FN-P